DEPARTMENT OF TRANSPORTATION

National Highway Traffic Safety Administration

[Docket No. NHTSA-2016-0109; Notice 2]

Mercedes-Benz USA, LLC, Grant of Petition for Decision of Inconsequential Noncompliance

AGENCY: National Highway Traffic Safety Administration (NHTSA), Department of Transportation (DOT).

ACTION: Grant of petition.

SUMMARY: Mercedes-Benz USA, LLC (MBUSA), has determined that certain model year (MY) 2015-2016 Mercedes-Benz CLS-Class motor vehicles do not fully comply with Federal Motor Vehicle Safety Standard (FMVSS) No. 110, Tire Selection and Rims and Motor Home/Recreation Vehicle Trailer Load Carrying Capacity Information for Motor Vehicles with a GVWR of 4,536 kilograms (10,000 pounds) or Less. MBUSA filed a Safety Recall Report dated September 12, 2016. MBUSA also petitioned NHTSA on October 4, 2016, for a decision that the subject noncompliance is inconsequential as it relates to motor vehicle safety.

ADDRESSES: For further information on this decision contact Kerrin Bressant, Office of Vehicle Safety Compliance, the National Highway Traffic Safety Administration (NHTSA), telephone (202) 366-1110, facsimile (202) 366-5930.

SUPPLEMENTARY INFORMATION:

I. Overview

Mercedes-Benz USA, LLC (MBUSA), has determined that certain model year (MY) 2015-2016 Mercedes-Benz CLS-Class motor vehicles do not fully comply with paragraph S4.3(a) of Federal Motor Vehicle Safety Standard (FMVSS) No. 110, Tire Selection and Rims and Motor Home/Recreation Vehicle Trailer Load Carrying Capacity Information for Motor Vehicles with a GVWR of 4,536 kilograms (10,000 pounds) or Less. MBUSA filed a report dated September 12, 2016, pursuant to 49 CFR part 573, Defect and Noncompliance Responsibility and Reports. MBUSA also petitioned NHTSA on October 4, 2016, pursuant to 49 U.S.C. 30118(d) and 30120(h) and 49 CFR part 556, for an exemption from the notification and remedy requirements of 49 U.S.C. Chapter 301 on the basis that this noncompliance is inconsequential as it relates to motor vehicle safety.

Notice of receipt of the petition was published, with a 30-day public comment period on December 20, 2016, in the Federal Register (81 FR 92964). No comments were received. To view the petition and all supporting documents log onto the Federal Docket Management System (FDMS) Web page at: http://www.regulations.gov/. Then follow the online search instruction to locate docket number “NHTSA-2016-0109.”

II. Vehicles Involved

Approximately 6,773 MY 2015-2016 Mercedes-Benz CLS 400 and Mercedes-Benz CLS 400 4MATIC motor vehicles manufactured between May 23, 2014 and April 21, 2016, are potentially involved.

III. Noncompliance

MBUSA explains that the noncompliance is that the subject vehicles have tire and loading information placards affixed to their B-pillars that incorrectly identify the maximum combined weight of occupants and cargo. Specifically, the Mercedes CLS 400 was manufactured with a tire and loading information placard that identifies a maximum combined weight of 420 kilograms (926 pounds) and the Mercedes CLS 400 4MATIC was manufactured with a tire and loading information placard that identifies a maximum combined weight of 355 kilograms (783 pounds). However, the maximum combined weight of occupants and cargo should be 315 kilograms (694 pounds) for the Mercedes CLS 400 and 325 kg (717 pounds) for the CLS 400 4MATIC. Therefore, the vehicles do not comply with paragraph S4.3 of FMVSS No. 110.

IV. Rule Text

Paragraph S4.3 of FMVSS No. 110 states:

S4.3 Placard. Each vehicle, except for a trailer or incomplete vehicle, shall show the information specified in S4.3 (a) through (g), and may show, at the manufacturer's option, the information specified in S4.3 (h) and (i), on a placard permanently affixed to the driver's side B-pillar. . . .

(a) Vehicle capacity weight expressed as “The combined weight of occupants and cargo should never exceed XXX kilograms or XXX pounds

V. Summary of MBUSA's Petition

MBUSA described the subject noncompliance and stated its belief that the noncompliance is inconsequential as it relates to motor vehicle safety.

In support of its petition, MBUSA submitted the following reasoning:

(a) The tires originally equipped on the subject vehicles are able to carry the additional weight indicated on the tire and loading information placard. Further, the tire pressure detailed on the placard is sufficient to carry those weights. The maximum tire and vehicle load information detailed in the table below demonstrates that the tire is designed to carry a higher load than that which was incorrectly set out on the tire label:

Tire dimension | Maximum tire load (lbs) | Maximum vehicle load (per tire): CLS 400 (lbs) | Maximum vehicle load (per tire): CLS 400 4MATIC (lbs)
18″ front | 1708 | 1243 | 1289
18″ rear | 1609 | 1256 | 1278
19″ front | 1565 | 1243 | 1289
19″ rear | 1653 | 1256 | 1278

(b) Should the driver follow the maximum combined weight of occupants and cargo displayed on the tire and information placard, motor vehicle safety is not negatively impacted. The vehicle platform (including chassis and axles) serves other CLS vehicle lines and is designed for vehicles with a higher gross vehicle weight rating (“GVWR”). The platform therefore can handle the potential additional weight.

(c) Subject vehicles are equipped with the B-pillar certification information label in accordance with 49 CFR part 567 indicating a GVWR of 2260 kilograms (4982 pounds) for vehicle type 218.365, the CLS 400, and a GVWR of 2330 kg (5137 pounds) for vehicle type 218.367, the CLS 400 4MATIC. The GVWR information detailed on the B-pillar certification information label is correct. Therefore, the driver can refer to this alternative source of information in order to determine the correct maximum load weight of the vehicle.

(d) After identifying the potentially incorrect values in the tire label, Daimler AG (DAG) analyzed potential technical implications, specifically with respect to the requirements of FMVSS No. 110, including potential effects on axles, suspension, brakes, driving dynamic, and crashworthiness. Based on this analysis, an impact on steering, braking or other vehicle dynamics as a result of the tire label weight discrepancy can be excluded.

(e) Moreover, MBUSA is not aware of any customer complaints, accidents or injuries alleged to have occurred as a result of this non-compliance. Hence, field data supports the assertion that the issue described above will have an inconsequential impact on safety.

MBUSA concluded by expressing the belief that the subject noncompliance is inconsequential as it relates to motor vehicle safety, and that its petition to be exempted from providing notification of the noncompliance, as required by 49 U.S.C. 30118, and a remedy for the noncompliance, as required by 49 U.S.C. 30120, should be granted.

NHTSA'S Decision

NHTSA's Analysis: FMVSS No. 110 specifies requirements for tire selection to prevent tire overload. The intent of the standard is to ensure that vehicles are equipped with tires appropriate to handle the vehicle manufacturer's designed maximum vehicle weight.

The maximum weight of a vehicle is determined by adding to the vehicle the manufacturer specified maximum weight of occupants and cargo. FMVSS No. 110, paragraph 4.3(a) requires that vehicles be labeled with a “Vehicle Capacity Weight (VCW)” value which is the specified maximum occupant and cargo weight that can be loaded into a vehicle. This value is equal to 68 kgs times the vehicle's designated seating capacity plus the rated cargo/payload of the vehicle. FMVSS No. 110, (S4.2.1.1 and S4.3.4(b)), requires that the vehicle maximum load on the tire shall not be greater than the applicable maximum load rating as marked on the sidewall of the tire or greater than the load rating of the tire at the manufacturer specified cold inflation pressure listed on the tire and loading information placard.

For the subject vehicles, MBUSA noted that the VCW values on the placards are incorrect. The tire and information placard on the CLS 400 model vehicle specifies a 420 kg VCW which should have been 315 kg, an increase of 105 kg. The label on the CLS 400 4MATIC model vehicle specifies a 355 kg VCW which should have been 325 kg, an increase of 30 kg. These errors could cause a consumer to load the subject vehicles beyond their original design specifications.

In its' petition, MBUSA provided an analysis indicating the mounted tires on the subject vehicles are sufficient for carrying the maximum vehicle loads derived from the higher, incorrect, VCW values. For the CLS 400 vehicles the analysis indicates the tire load carrying capabilities exceed the maximum tire load by at least 147 kg (710 kg tire load rating minus 563 kg maximum tire load). For the CLS 400 4MATIC vehicles the analysis indicates the tire load carrying capabilities exceed the maximum tire load by at least 125 kg (709 kg tire load rating minus 584 kg maximum tire load). NHTSA verified the tire load ratings specified by MBUSA in accordance with the European Tyre and Rim Technical Organisation (ETRTO) manual. As shown by MBUSA, the tire capacities are more than adequate to handle the additional weight of the higher VCW values. MBUSA's analysis shows that the tires mounted on the subject vehicles exceed the load requirements of FMVSS No. 110.

MBUSA also mentioned that the certification labels affixed to the subject vehicles provide the vehicle's gross axle weight ratings (GAWRs) and the gross vehicle weight rating (GVWR)in accordance with 49 CFR 567, Certification. MBUSA stated that the GAWRs and GVWR values provided on the subject vehicles are correct as labeled. These ratings are established by the vehicle manufacturer and provided as an alternative source of information consumers can use to ensure a vehicle and its' axles are not overloaded. Vehicle manufacturers specify that these ratings should not be exceeded when loading any vehicle. The agency reviewed the maximum loads on the axles and vehicles, using the higher labeled VCW values, against the certified GAWRs and GVWR of the subject vehicles. For the CLS 400 4MATIC vehicles, maximum loads were well below the GAWR and GVWR values. For the CLS 400 vehicles, the maximum loads are essentially at the certified GAWRs and GVWR values. MBUSA also stated in its petition that the platform (chassis and axles) utilized on the subject vehicles is used with other CLS vehicle lines and is designed for vehicles with higher GVWRs. It appears from this analysis the subject vehicles can safely accommodate the higher VCW loads without overload concerns.

No comments were received during the receipt notice comment period.

NHTSA Decision: In consideration of the foregoing, NHTSA finds that MBUSA has met its burden of persuasion that the FMVSS No. 110 noncompliance is inconsequential as it relates to motor vehicle safety. Accordingly, MBUSA's petition is hereby granted and MBUSA is exempted from the obligation to provide notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that MBUSA no longer controlled at the time it determined that the noncompliance existed. However, the granting of this petition does not relieve vehicle distributors and dealers of the prohibitions on the sale, offer for sale, or introduction or delivery for introduction into interstate commerce of the noncompliant vehicles under their control after MBUSA notified them that the subject noncompliance existed.

Authority: 49 U.S.C. 30118, 30120: delegations of authority at 49 CFR 1.95 and 501.8.

Jeffrey M. Giuseppe,
Director, Office of Vehicle Safety Compliance.

[FR Doc. 2017-15255 Filed 7-19-17; 8:45 am]

BILLING CODE 4910-59-P